DEPARTMENT OF HEALTH AND HUMAN SERVICES

National Institutes of Health

Submission for OMB Review; Comment Request; National Institutes of Health Undergraduate Scholarship Program for Individuals From Disadvantaged Backgrounds

SUMMARY: Under the provisions of section 3507(a)(1)(D) of the Paperwork Reduction Act of 1995, the Office of the Director, National Institutes of Health (NIH) has submitted to the Office of Management and Budget (OMB) a request to review and approve the information collection listed below. This proposed information collection was previously published in the Federal Register on February 27, 2001, page 12529, and allowed 60 days for public comment. No public comments were received. The purpose of this notice is to allow an additional 30 days for public comment. The NIH may not conduct or sponsor, and the respondent is not required to respond to, an information collection that has been extended, revised, or implemented on or after October 1, 1995 unless it displays a currently valid OMB control number.

Proposed Collection

Title: National Institutes of Health Undergraduate Scholarship Program for Individuals from Disadvantaged Backgrounds. Type of Information Collection Request: Revision. Form Numbers: NIH 2762-1, NIH 2762-2, NIH 2762-3, NIH 2762-4, and NIH 2762-5. Need and Use of Information Collection: The NIH Undergraduate Scholarship Program for Individuals from Disadvantaged Backgrounds (UGSP) requires participants to maintain enrollment in an undergraduate degree program and to begin service payback through employment at the NIH within 60 days of their graduation. The NIH is proposing to modify the current information collection by adding NIH Form 2762-5 to allow individuals to defer their service payback obligation. This information collection certifies that scholars are continuing their undergraduate program and provides those who have graduated the opportunity to request a deferment of their service payback obligation if they are enrolled in an approved graduate or medical degree program. Frequency of response: Annual. Affected public: Individuals and Academic Institutions. Types of Respondents: Participants in the UGSP and Academic Institutions (undergraduate, graduate, and medical schools). The annual reporting burden in as follows: Estimated Number of Respondents: 1,330; Estimated Number of Responses per Respondent: 1; Average Burden Hours per Response: 1.298; and Estimated Total Annual Burden Hours Requested: 1,727. The annualized cost to respondents is estimated at $30,036.33. There are no Capital Costs to report. There are no Operating Costs or Maintenance Costs to report.

Type of respondents | Estimated number of respondents | Frequency of response | Average burden hours per response | Annual hour burden
Applicant | 250 | 1.0 | 3.167 | 791.75
Recommender | 750 | 1.0 | 1.000 | 750.00
Financial Aid Staff | 250 | 1.0 | 0.500 | 125.00
UGSP Participant | 40 | 1.0 | 0.750 | 30.00
Registrar Staff | 40 | 1.0 | 0.750 | 30.00
Totals | 1,330 |  |  | 1,726.75

Request for Comments

Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB

Written comments and/or suggestions regarding the items contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Marc S. Horowitz, J.D., Director, Office of Loan Repayment and Scholarship, NIH, 2 Center Drive, Room 2E28, MSC 0230, Bethesda, MD 20892-0230 or call toll-free 1-800-528-7689, or e-mail your request, including your address to: <MHorowitz@nih.gov>.

Comments Due Date: Comments regarding this information collection are best assured of having their full effect if received on or before June 20, 2001.

Dated: May 15, 2001.
Yvonne T. Maddox,
Acting Deputy Director, NIH.

[FR Doc. 01-12667 Filed 5-18-01; 8:45 am]

BILLING CODE 4140-01-M